DEPARTMENT OF HOMELAND SECURITY

Federal Emergency Management Agency

Agency Information Collection Activities: Proposed Collection; Comment Request

AGENCY: Federal Emergency Management Agency, U.S. Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995 (44 U.S.C. 3506(c)(2)(A)), this notice seeks comments concerning the use of a census form to collect data for the development of a national fire department database.

SUPPLEMENTARY INFORMATION: The U.S. Fire Administration (USFA) receives many requests from fire service organizations and the general public for information related to fire departments, including total number of departments, number of stations per department, population protected, and number of firefighters. The USFA also has a need for this information to guide programmatic decisions, and produce mailing lists for USFA publications. Recommendations for the creation of the fire department database came out of a Blue Ribbon Panel's review of the USFA—initiated by former FEMA Director James Lee Witt in the spring of 1998. The report included a review of the structure, mission and funding of the USFA, future policies, programmatic needs, course development and delivery, and the role of the USFA to reflect changes in the fire service. The panel included 13 members of the U.S. fire community. As a result of those recommendations, the USFA is working to identify all fire departments in the United States to develop and populate a national database that will include information related to demographics, capabilities and activities of fire departments Nationwide. In the first year of this effort, information was collected from 16,000 fire departments. Since the first year of the collection, an additional 8,000 departments have registered with the census for a total of 24,000 fire departments. This leaves an estimated 9,000 departments still to respond.

Collection of Information

Title: National Fire Department Census.

Type of Information Collection: Extension of a currently approved collection.

OMB Number: 1660-0070.

Abstract: Many data products and reports exist that contain fragmented or estimated information about fire department demographics, and capabilities, but there is no single reference source today that aggregates this data to provide a complete and accurate profile of fire departments in the United States. The U.S. Fire Administration (USFA) receives many requests for information related to fire departments, including total number of departments, number of stations per department, population protected, apparatus and equipment status. The USFA is working to identify all fire departments in the United States to develop and populate a national database that will include information related to demographics, capabilities and activities. The database will be used by USFA to guide programmatic decisions, provide the Fire Service and the public with information about fire departments, to produce mailing lists for USFA publications and other materials. In the first year of this effort, information was collected from 16,000 fire departments. Since the first year of the collection, an additional 8,000 departments have registered with the census for a total of 24,000 fire departments. This leaves an estimated 9,000 departments still to respond. Additionally, fire departments already registered with the census will be contacted once every five years to provide updates or changes to their census data so that USFA can keep the database as current as possible. Fire departments are able to complete the census form on-line through the USFA web site, or by filling out a paper census form and faxing the completed form, or sending it in a return envelope.

Affected Public: Federal, State, local government, volunteer and industrial fire departments.

Estimated Total Annual Burden Hours
FEMA forms | Number of respondents (A) | Frequency of response (B) | Hours per response (C) | Annual burden hours (A × B × C)
| 9,000 | 1 | 25 Minutes (.42) | 3,750
Total | 9,000 | 1 | 25 Minutes (.42) | 3,750

Estimated Cost: The estimated costs to the government will be contracted direct labor and associated overhead costs of $50,000. There would be no costs to the respondent other than the minimal direct labor cost of a single firefighter or emergency service worker taking a small amount of time to complete the census form and this would be applicable only to those fire departments and emergency service agencies with career employees. The majority of the respondents will be from volunteer fire departments for which no direct labor costs will be incurred. The estimate of respondent costs for those career departments is computed as follows: Estimated number of census forms multiplied by the national median hourly rate of a firefighter of $17.42 multiplied by .42 (representing the estimated 25 minutes it takes to complete the census form) and multiply that by .27 which represents the percentage of respondents who are career (paid) personnel. Using this equation, total estimated costs to respondents of $17,779 is derived (9,000 estimated census forms x $17.42 = $156,780 x .42 = $65,848 x .27 = $17,779). The average cost per census form is a minimal $1.96. The respondents are under no obligation to complete the census form and may refuse to do so or stop at any time so the average cost to the respondent of $1.96 could easily not be incurred by refusing to fill out the census form.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Department of Homeland Security, 500 C Street, SW., Room 316, Washington, DC 20472.

FOR FURTHER INFORMATION CONTACT: Contact Gayle Kelch, Statistician, United States Fire Administration, National Fire Data Center (301) 447-1154 for additional information. You may contact the Records Management Branch for copies of the proposed collection of information at facsimile number (202) 646-3347 or e-mail address: FEMA-Information-Collections@dhs.gov.

Dated: November 15, 2005.
Darcy Bingham,
Branch Chief, Information Resources Management Branch, Information Technology Services Division.

[FR Doc. 05-23134 Filed 11-22-05; 8:45 am]

BILLING CODE 9110-17-P